DEPARTMENT OF HOMELAND SECURITY

U.S. Customs and Border Protection

Uruguay Beef Imports Approved for the Electronic Certification System (eCERT)

AGENCY: U.S. Customs and Border Protection, Department of Homeland Security.

ACTION: General notice.

SUMMARY: This document announces that the export certification requirement for certain imports of beef from the Oriental Republic of Uruguay (Uruguay) subject to a tariff-rate quota will be accomplished through the Electronic Certification System (eCERT). All imports of beef from Uruguay that are subject to the tariff-rate quota must have a valid export certificate with a corresponding eCERT transmission at the time of entry, or withdrawal from warehouse, for consumption. The United States Government (USG) has approved the request from Uruguay to transition, from the way the USG currently receives export certificates from Uruguay, to eCERT as the method of transmission. The transition to eCERT will not change the tariff-rate quota filing process or requirements. Importers will continue to provide the export certificate numbers from Uruguay in the same manner as when currently filing entry summaries with U.S. Customs and Border Protection. The format of the export certificate numbers will remain the same for the corresponding eCERT transmissions.

DATES: The use of the eCERT process for certain Uruguayan beef importations subject to a tariff-rate quota will be effective for beef entered, or withdrawn from a warehouse, for consumption on or after August 30, 2021.

FOR FURTHER INFORMATION CONTACT: Julia Peterson, Chief, Quota and Agriculture Branch, Trade Policy and Programs, Office of Trade, (202) 384-8905, or HQQUOTA@cbp.dhs.gov.

SUPPLEMENTARY INFORMATION:

Background

There is an existing tariff-rate quota on certain beef from the Oriental Republic of Uruguay (Uruguay) pursuant to Additional U.S. Note 3 of Chapter 2 of the Harmonized Tariff Schedule of the United States (HTSUS). The tariff-rate quota for beef from Uruguay was established by section 6 of the Presidential Proclamation No. 6763 (December 23, 1994), as a result of the Uruguay Round Agreements, approved by Congress in section 101 of the Uruguay Round Agreements Act (19 U.S.C. 3511(a), Pub. L. 103-465, 108 Stat. 4814). Tariff-rate quotas permit a specified quantity of merchandise to be entered or withdrawn for consumption at a reduced duty rate during a specified period. Furthermore, section 2012.3 of title 15 of the Code of Federal Regulations (CFR) states that beef may only be entered as a product of an eligible country for a tariff-rate quota if the importer makes a declaration to U.S. Customs and Border Protection (CBP) that a valid export certificate is in effect with respect to the beef. In addition, the CBP regulations, at 19 CFR 132.15, set forth provisions relating to the requirement that an importer must possess a valid export certificate at the time of entry, or withdrawal from warehouse, for consumption, to claim the in-quota tariff rate of duty on entries of beef subject to the tariff-rate quota.

The Electronic Certification System (eCERT) is a system developed by CBP that uses electronic data transmissions of information normally associated with a required export document, such as a license or certificate, to facilitate the administration of quotas and ensure that the proper restraint levels are charged without being exceeded. Uruguay currently submits export certificates to CBP via email, and in the administration of the quota, CBP validates these certificates with the certificate numbers provided by importers on their entry summaries. Uruguay requested to participate in the eCERT process to comply with the United States' tariff-rate quota for beef exported from Uruguay for importation into the United States. CBP has coordinated with Uruguay to implement the eCERT process, and now Uruguay is ready to participate in this process by transmitting its export certificates to CBP via eCERT.

Foreign countries participating in eCERT transmit information via a global network service provider, which allows connectivity to CBP's automated electronic system for commercial trade processing, the Automated Commercial Environment (ACE). Specific data elements are transmitted to CBP by the importer of record (or an authorized customs broker) when filing an entry summary with CBP, and those data elements must match eCERT data from the foreign country before an importer may claim any applicable in-quota tariff rate of duty. An importer may claim an in-quota tariff rate when merchandise is entered, or withdrawn from warehouse, for consumption, only if the information transmitted by the importer matches the information transmitted by the foreign government. If there is no transmission by the foreign government upon entry, an importer must claim the higher over-quota tariff rate.¹ An importer may subsequently claim the in-quota tariff rate under certain limited conditions.²

¹ If there is no associated foreign government eCERT transmission available upon entry of the merchandise, an importer may enter the merchandise for consumption subject to the over-quota tariff rate or opt not to enter the merchandise for consumption at that time (e.g., transfer the merchandise to a Customs bonded warehouse or foreign trade zone or export or destroy the merchandise).

² If an importer enters the merchandise for consumption subject to the over-quota tariff rate and the associated foreign government eCERT transmission becomes available afterwards, an importer may claim the in-quota rate of duty by filing a post summary correction (before liquidation) or a protest under 19 CFR part 174 (after liquidation). In either event, the in-quota rate of duty is allowable only if there are still quota amounts available within the original quota period.

This document announces that Uruguay will be implementing the eCERT process for transmitting export certificates for beef entries subject to the tariff-rate quota. Imported merchandise that is entered, or withdrawn from warehouse, for consumption on or after August 30, 2021, must match the eCERT transmission of an export certificate from Uruguay in order for an importer to claim the in-tariff quota rate. The transition to eCERT will not change the tariff-rate quota filing process or requirements. Importers will continue to provide the export certificate numbers from Uruguay in the same manner as when currently filing entry summaries with CBP. The format of the export certificate numbers will not change as a result of the transition to eCERT. CBP will reject entry summaries that claim an in-quota tariff rate when filed without a valid export certificate in eCERT.

Dated: August 16, 2021.
AnnMarie R. Highsmith,
Executive Assistant Commissioner, Office of Trade.

[FR Doc. 2021-18009 Filed 8-20-21; 8:45 am]

BILLING CODE P